ENVIRONMENTAL PROTECTION AGENCY

40 CFR Part 52

[EPA-R02-OAR-2016-0060; FRL-9955-06-Region 2]

Approval and Promulgation of Implementation Plans; New Jersey; Revised Format for Materials Being Incorporated by Reference

AGENCY: Environmental Protection Agency (EPA).

ACTION: Final rule; administrative change.

SUMMARY: The Environmental Protection Agency (EPA) is revising the format for materials submitted by New Jersey that have been incorporated by reference (IBR) into its State Implementation Plan (SIP). The regulations and other materials affected by this format change have all been previously submitted by New Jersey and approved by EPA as SIP revisions.

This format revision will primarily affect the “Identification of plan” section as well as the format of the SIP materials that will be available for public inspection at the National Archives and Records Administration (NARA), and the EPA Region 2 Office. EPA is also adding a table in the “Identification of plan” section, which summarizes the approval actions that EPA has taken on the regulatory and non-regulatory portions of the New Jersey SIP.

DATES: This rule is effective on July 3, 2017.

ADDRESSES: SIP materials which are incorporated by reference into 40 CFR part 52 are available for inspection at the following locations: Environmental Protection Agency, Region 2 Office, Air Programs Branch, 290 Broadway, 25th Floor, New York, New York 10007-1866; or the National Archives and Records Administration. Please contact the person identified in the FOR FURTHER INFORMATION CONTACT section for additional availability information for Region 2 SIP materials. For information on the availability of this material at NARA, call (202) 741-6030, or go to: http://www.archives.gov/federal_register/code_of_federal_regulations/ibr_locations.html.

FOR FURTHER INFORMATION CONTACT: Raymond K. Forde, Air Programs Branch, Environmental Protection Agency, 290 Broadway, 25th Floor, New York, New York 10007-1866, (212) 637-3716.

SUPPLEMENTARY INFORMATION:

Table of Contents

I. Background

A. Description of a SIP

B. How EPA Enforces SIPs

C. How the State and EPA Update the SIP

D. How EPA Compiles the SIP

E. How EPA Organizes the SIP Compilation

F. Where You Can Find a Copy of the SIP Compilation

G. The Format of the New Identification of Plan Section

H. When a State SIP Revision Becomes Part of the SIP and Federally Enforceable

I. The Historical Record of SIP Revision Approvals

II. What is EPA doing in this action?

III. Incorporation by Reference

IV. Statutory and Executive Order Reviews

I. Background

A. Description of a SIP

In accordance with Section 110 of the Clean Air Act (Act), 42 U.S.C. 7410, each state has a SIP containing the control measures and strategies to attain and maintain the National Ambient Air Quality Standards (NAAQS) established pursuant to Section 109 of the Act, 42 U.S.C. 7409. SIPs contain numerous elements such as air pollution control regulations, emission inventories, monitoring networks, attainment demonstrations, and enforcement mechanisms.

B. How EPA Enforces SIPs

Before formally adopting rules that contain required control measures and strategies as part of a SIP, each state must provide the public with an opportunity to comment on them. The states then submit these rules to EPA as requested SIP revisions, on which EPA must formally act.

If and when these control measures and strategies are approved by EPA after notice and comment rulemaking, they become enforceable by EPA, and are incorporated into the federally approved SIP and identified in title 40 of the Code of Federal Regulations, part 52 (Approval and Promulgation of Implementation Plans) (40 CFR part 52). The actual state regulations approved by EPA are not reproduced in their entirety in 40 CFR part 52, but are “incorporated by reference,” which has the same effect as including the entire state regulation in part 52. Incorporation by reference indicates that EPA has approved a given state regulation with a specific effective date, and that EPA, in addition to the state, may enforce that regulation once it takes effect and is formally a part of the SIP. This format allows both EPA and the public to know which state measures are contained in a given SIP and are therefore federally enforceable. It also helps identify the specific requirements that the state is implementing to attain and maintain the NAAQS.

C. How the State and EPA Update the SIP

The SIP is periodically revised as necessary to address the specific or unique air pollution problems in the state. Therefore, EPA from time to time takes action on state SIP submissions containing new and/or revised regulations and other materials; if approved, they become part of the SIP. On May 22, 1997 (62 FR 27968), EPA revised the procedures for incorporating by reference federally approved SIPs, as a result of consultations between EPA and the Office of the Federal Register (OFR).

As a result, EPA began the process of developing the following: (1) A revised SIP document for each state that would be incorporated by reference under the provisions of title 1 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

D. How EPA Compiles the SIP

The federally approved regulations, source-specific requirements, and nonregulatory provisions (entirely or portions of) submitted by each state agency and approved by EPA have been organized into a “SIP compilation.” The compilation is contained in three-ring binders and will be updated, primarily on an annual basis. The New Jersey SIP compilation is available at the Environmental Protection Agency, Region 2 Office: 290 Broadway, New York, New York 10007; (212) 637-4249.

E. How EPA Organizes the SIP Compilation

Each SIP compilation contains three parts approved by EPA: Part one contains regulations, part two contains source-specific requirements, and part three contains nonregulatory provisions. Each state's SIP compilation contains a table of identifying information for each of these three parts. In this action, EPA is publishing the tables summarizing the applicable SIP requirements for New Jersey. The effective dates in the tables indicate the date of the most recent state revision of each regulation. The EPA Region 2 Office has the primary responsibility for updating the compilation and ensuring its accuracy.

F. Where You Can Find a Copy of the SIP Compilation

EPA's Region 2 Office developed and will maintain the compilation for New Jersey. A copy of the full text of New Jersey's regulatory and source-specific compilations will also be maintained at NARA.

G. The Format of the New Identification of Plan Section

In order to better serve the public, EPA revised the organization of the “Identification of plan” section and included additional information to clarify which provisions are the enforceable elements of the SIP. The revised Identification of plan section contains five subsections: (a) Purpose and scope, (b) Incorporation by reference, (c) EPA-approved regulations, (d) EPA-approved source-specific requirements, and (e) EPA-approved nonregulatory provisions such as transportation control measures, statutes, control strategies, and monitoring networks.

H. When a State SIP Revision Becomes Part of the SIP and Federally Enforceable

All revisions to the applicable SIP become federally enforceable as of the effective date of the revisions to paragraph (c), (d), or (e) of the applicable Identification of plan section found in each subpart of 40 CFR part 52.

I. The Historical Record of SIP Revision Approvals

To facilitate enforcement of previously approved SIP provisions and provide a smooth transition to the new SIP compilation, EPA has retained the original Identification of plan section, previously appearing in the CFR as the first or second section of part 52 for each state subpart. After an initial two-year period, EPA will review its experience with the new table format and will decide whether or not to retain the historical Identification of plan appendices for some further period.

II. What is EPA doing in this action?

This rule constitutes a reformatting exercise to ensure that all revisions to the state programs and accompanying SIP that have already occurred are accurately reflected in 40 CFR part 52. State SIP revisions are subject to the EPA regulations at 40 CFR part 51. When EPA receives a formal SIP revision request, the Agency must publish its proposed rulemaking in the Federal Register and provide for public comment before approval.

EPA has determined that this rule falls under the “good cause” exemption in section 553(b)(3)(B) of the Administrative Procedures Act (APA) which, upon finding “good cause,” authorizes agencies to dispense with public participation, and section 553(d)(3), which allows an agency to make a rule effective immediately, thereby avoiding the 30-day delayed effective date otherwise provided for in the APA. This rule simply reorganizes and codifies provisions that are already in effect as a matter of law in Federal and approved state programs. Accordingly, we find that public comment is “unnecessary” and “contrary to the public interest” under section 553 of the APA, since the reorganization and codification of the revised format for denoting IBR of the state materials into the SIP only reflects existing law and since immediate notice in the CFR benefits the public by removing outdated citations from the CFR.

III. Incorporation by Reference

In this rule, the EPA is finalizing regulatory text that includes incorporation by reference. In accordance with requirements of 1 CFR 51.5, the EPA is finalizing the incorporation by reference of the New Jersey regulations described in the amendments to 40 CFR part 52 set forth below. The EPA has made, and will continue to make, these materials generally available through www.regulations.gov, NARA, and the EPA Region 2 Office (please contact the person identified in the FOR FURTHER INFORMATION CONTACT section of this preamble for more information). For information on the availability of this material at NARA, go to: www.archives.gov/federal-register/cfr/ibr-locations.html.

IV. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the New Jersey SIP compilations previously afforded interested parties the opportunity to file a petition for judicial review in the United States Court of Appeals for the appropriate circuit within 60 days of such rulemaking action. Thus, EPA sees no need in this action to reopen the 60-day period for filing such petitions for judicial review for this “Identification of plan” reorganization update action for the State of New Jersey.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides, Volatile organic compounds.

Dated: June 2, 2017.
Catherine R. McCabe,
Acting Regional Administrator, Region 2.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

§ 52.1570 [Redesignated as § 52.1587]

2. Redesignate § 52.1570 as § 52.1587, and in newly redesignated § 52.1587, revise the section heading and paragraph (a) to read as follows:

§ 52.1587 Original identification of plan section.

(a) This section identifies the original “Air Implementation Plan for the State of New Jersey” and all revisions submitted by New Jersey that were Federally approved prior to October 1, 2016.

* * * * *

3. A new § 52.1570 is added to read as follows:

§ 52.1570 Identification of plan.

(a) Purpose and scope. This section sets forth the applicable State Implementation Plan (SIP) for New Jersey under section 110 of the Clean Air Act, as amended, 42 U.S.C. 7401 et seq., and 40 CFR part 51 to meet National Ambient Air Quality Standards.

(b) Incorporation by reference. (1) Material listed in paragraphs (c) and (d) of this section with an EPA approval date prior to October 1, 2016, was approved for incorporation by reference by the Director of the Federal Register in accordance with 5 U.S.C. 552(a) and 1 CFR part 51. Entries in paragraphs (c) and (d) of this section with the EPA approval dates after October 1, 2016 have been approved by EPA for inclusion in the State implementation plan and for incorporation by reference into the plan as it is contained in this section, and will be considered by the Director of the Federal Register for approval in the next update to the SIP compilation.

(2) EPA Region 2 certifies that the materials provided by EPA at the addresses in paragraph (b)(3) of this section are an exact duplicate of the officially promulgated state rules/regulations which have been approved as part of the state implementation plan as of the dates referenced in paragraph (b)(1) of this section.

(3) Copies of the materials incorporated by reference into the state implementation plan may be inspected at the Environmental Protection Agency, Region 2, Air Programs Branch, 290 Broadway, New York, New York 10007. To obtain the material, please call the Regional Office. You may also inspect the material with an EPA approval date prior to October 1, 2016 at the National Archives and Records Administration (NARA). For information on the availability of this material at NARA, go to: http://www.archives.gov/federal-register/cfr/ibr-locations.html.

(c) EPA approved regulations.

EPA-Approved New Jersey State Regulations
State citation | Title/subject | State effective date | EPA approval date | Comments
Title 7, Chapter 26, Subchapter 2A | Additional, Specific Disposal Regulations for Sanitary Landfills | June 1, 1987 | June 29, 1990, 55 FR 26687 |
Title 7, Chapter 27, Subchapter 1 | General Provisions | May 1, 1956 | May 31, 1972, 37 FR 10880 |
Title 7, Chapter 27, Subchapter 2 | Control and Prohibition of Open Burning | June 8, 1981 | September 30, 1981, 46 FR 47779 |
Title 7, Chapter 27, Subchapter 3 | Control and Prohibition of Smoke from Combustion of Fuel | October 12, 1977 | January 27, 1984, 49 FR 3463 |
Title 7, Chapter 27, Subchapter 4 | Control and Prohibition of Particles from Combustion of Fuel | April 20, 2009 | August 3, 2010, 75 FR 45483 |
Title 7, Chapter 27, Subchapter 5 | Prohibition of Air Pollution | October 12, 1977 | January 27, 1984, 49 FR 3463 |
Title 7, Chapter 27, Subchapter 6 | Control and Prohibition of Particles from Manufacturing Processes (except section 6.5) | May 23, 1977 | January 26, 1979, 44 FR 5425 | Section 6.5, “Variances,” is not approved (40 CFR 52. 52.1587(c)(20) and 52.1604(a)). Any State-issued variances must be formally incorporated as SIP revisions if EPA is to be bound to their provisions (40 CFR 52.1604(a)).
Title 7, Chapter 27, Subchapter 7 | Sulfur | March 1, 1967 | May 31, 1972, 37 FR 10880 |
Title 7, Chapter 27, Subchapter 8 | Permits and Certificates, Hearings, and Confidentiality | April 5, 1985 | November 25, 1986, 51 FR 42565 |
Title 7, Chapter 27, Section 8.11 | Permits and Certificates, Hearings, and Confidentiality | March 2, 1992 | April 15, 1994, 59 FR 17933 |
Title 7, Chapter 27, Sections 8.1 and 8.2 | Permits and Certificates, Hearings, and Confidentiality | June 20, 1994 | August 7, 1997, 62 FR 42412 |
Title 7, Chapter 27, Subchapter 9 | Sulfur in Fuels | September 20, 2010 | January 3, 2012, 77 FR 19 | Sulfur dioxide “bubble” permits issued by the State pursuant to Section 9.2 and not waived under the provisions of Section 9.4 become applicable parts of the SIP only after receiving EPA approval as a SIP revision.
Title 7, Chapter 27, Subchapter 10 | Sulfur in Solid Fuels | April 20, 2009 | August 3, 2010, 75 FR 45483 | Notification of “large zone 3 coal conversions” must be provided to EPA (40 CFR 52.1601(b)).
Title 7, Chapter 27, Subchapter 11 | Incinerators | August 15, 1968 | May 31, 1972, 37 FR 10880 |
Title 7, Chapter 27, Subchapter 12 | Prevention and Control of Air Pollution Emergencies | March 27, 1972 | May 31, 1972, 37 FR 10880 |
Title 7, Chapter 27, Subchapter 13 | Ambient Air Quality Standards | June 25, 1985 | November 25, 1986, 51 FR 42565 |
Title 7, Chapter 27, Subchapter 14, Sections 14.2(old) | Control and Prohibition of Air Pollution from Diesel-Powered Motor Vehicles | July 1, 1985 | June 13, 1986, 51 FR 21549 | On September 15, 1997, Section 14.2 was re-numbered to 14.6. The State did not submit this change as a SIP revision. Therefore, the July 1, 1985, version of Section 14.2 will continue to be the EPA-approved regulation.
Title 7, Chapter 27, Subchapter 14, Section 14.1 | Control and Prohibition of Air Pollution from Diesel-Powered Motor Vehicles | July 2, 2007 | April 17, 2009, 74 FR 17781 |
Title 7, Chapter 27, Subchapter 14, Section 14.2 | Control and Prohibition of Air Pollution from Diesel-Powered Motor Vehicles | September 15, 1997 | April 17, 2009, EPA approval finalized at 74 FR 17781 |
Title 7, Chapter 27, Subchapter 14, Section 14.3 | Control and Prohibition of Air Pollution from Diesel-Powered Motor Vehicles | July 2, 2007 | April 17, 2009, EPA approval finalized at 74 FR 17781 |
Title 7, Chapter 27, Subchapter 15 | Control and Prohibition of Air Pollution from Gasoline-Fueled Motor Vehicles | November 16, 2009 | March 15, 2012, 77 FR 15263 |
Title 7, Chapter 27, Subchapter 16 | Control and Prohibition of Air Pollution by Volatile Organic Compounds | April 20, 2009 | August 3, 2010, 75 FR 45483 |
Title 7, Chapter 27, Subchapter 17 | Control and Prohibition of Air Pollution by Toxic Substances | June 20, 1994 | August 7, 1997, 62 FR 42412 | Subchapter 17 is included in the SIP only as it relates to the control of perchloroethylene.
Title 7, Chapter 27, Subchapter 18 | Control and Prohibition of Air Pollution from New or Altered Sources Affecting Ambient Air Quality (Emission Offset Rules) | March 15, 1993 | July 25, 1996, 61 FR 38591 | See July 25, 1996, for items not included in this limited approval.
Title 7, Chapter 27, Subchapter 19 | Control and Prohibition of Air Pollution from Oxides of Nitrogen | April 20, 2009, as corrected on June 15, 2009 and July 6, 2009 | August 3, 2010, 75 FR 45483 | Subchapter 19 is approved into the SIP except for the following provisions: (1) Phased compliance plan through repowering in Section 19.21 that allows for implementation beyond May 1, 1999; and (2) phased compliance plan through the use of innovative control technology in Section 19.23 that allows for implementation beyond May 1, 1999.
Title 7, Chapter 27, Subchapter 21 | Emission Statements | April 20, 2009 | August 3, 2010, 75 FR 45483 | Section 7:27-21.3(b)(1) and 7:27-21.3(b)(2) of New Jersey's Emission Statement rule requires facilities to report on the following pollutants to assist the State in air quality planning needs: Hydrochloric acid, hydrazine, methylene chloride, tetrachloroethylene, 1, 1, 1 trichloroethane, carbon dioxide and methane. EPA will not take SIP-related enforcement action on these pollutants.
Title 7, Chapter 27, Subchapter 23 | Prevention of Air Pollution from Architectural Coatings | December 29, 2008 | December 22, 2010, 75 FR 80340 |
Title 7, Chapter 27, Subchapter 24 | Prevention of Air Pollution from Consumer Products | December 29, 2008 | December 22, 2010, 75 FR 80340 |
Title 7, Chapter 27, Subchapter 25 | Control and Prohibition of Air Pollution by Vehicular Fuels | December 29, 2008 | December 22, 2010, 75 FR 80340 |
Title 7, Chapter 27, Subchapter 26 | Prevention of Air Pollution from Adhesives, Sealants, Adhesive Primers and Sealant Primers | December 29, 2008 | December 22, 2010, 75 FR 80340 |
Title 7, Chapter 27, Subchapter 29 | Low Emission Vehicle (LEV) Program | January 17, 2006 | February 13, 2008, 73 FR 8200 | In Section 29.13(g), Title 13, Chapter 1, Article 2, Section 1961.1 of the California Code of Regulations relating to greenhouse gas emission standards, is not incorporated into the SIP.
Title 7, Chapter 27, Subchapter 30 | Clean Air Interstate Rule (CAIR) NOX Trading Program | July 16, 2007 | October 1, 2007, 72 FR 55672 |
Title 7, Chapter 27, Subchapter 31 | NOX Budget Program | July 16, 2007 | October 1, 2007, 72 FR 55672 |
Title 7, Chapter 27, Subchapter 34 | TBAC Emissions Reporting | December 29, 2008 | December 22, 2010, 75 FR 80340 |
Title 7, Chapter 27B, Subchapter 3 | Air Test Method 3: Sampling and Analytic Procedures for the Determination of Volatile Organic Compounds from Source Operations | June 20, 1994 | August 7, 1997, 62 FR 42412 |
Title 7, Chapter 27B, Subchapter 5 | Air Test Method 5: Testing Procedures for Gasoline-Fueled Vehicles | November 16, 2009 | March 15, 2012, 77 FR 15263 |
Title 13, Chapter 20, Subchapter 7, Sections: 7.1. 7.2, 7.3, 7.4, 7.5, 7.6 | Vehicle Inspection | October 19, 2009 | March 15, 2012, 77 FR 15263 |
Title 13, Chapter 20, Subchapter 24, Section 20 | Motorcycles | October 19, 2009 | March 15, 2012, 77 FR 15263 |
Title 13, Chapter 20, Subchapter 26, Sections 26.2 and 26.16 | Compliance with Diesel Emission Standards and Equipment, Periodic Inspection Program for Diesel Emissions, and Self-Inspection of Certain Classes of Motor Vehicles | October 19, 2009 | March 15, 2012, 77 FR 15263 |
Title 13, Chapter 20, Subchapter 28, Sections 28.3, 28.4 and 28.6 | Inspection of New Motor Vehicles | October 19, 2009 | March 15, 2012, 77 FR 15263 |
Title 13, Chapter 20, Subchapter 29, Sections 29.1, 29.2 and 29.3 | Mobile Inspection Unit | October 19, 2009 | March 15, 2012, 77 FR 15263 |
Title 13, Chapter 20, Subchapter 32 | Inspection Standards and Test Procedures to be Used by Official Inspection Facilities | October 19, 2009 | March 15, 2012, 77 FR 15263 |
Title 13, Chapter 20, Subchapter 33 | Inspection Standards and Test Procedures to be Used by Licensed Private Inspection Facilities | October 19, 2009 | March 15, 2012, 77 FR 15263 |
Title 13, Chapter 20, Subchapter 43 | Enhanced Motor Vehicle Inspection and Maintenance Program | October 19, 2009 | March 15, 2012, 77 FR 15263 |
Title 13, Chapter 20, Subchapter 44 | Private Inspection Facility Licensing | October 19, 2009 | March 15, 2012, 77 FR 15263 |
Title 13, Chapter 20, Subchapter 45 | Motor Vehicle Emission Repair Facility Registration | October 19, 2009 | March 15, 2012, 77 FR 15263 |
Title 13, Chapter 21, Subchapter 5, Section 5.12 | Registration Plate Decals | December 6, 1999 | January 22, 2002, 67 FR 2811 |
Title 13, Chapter 21, Subchapter 15, Sections 15.8 and 15.12 | New Jersey Licensed Motor Vehicle Dealers | October 19, 2009 | March 15, 2012, 77 FR 15263 |
Title 16, Chapter 53 | Autobus Specifications | September 26, 1983 | June 13, 1986, 51 FR 21549 | Only Sections 3.23, 3.24, 3.27, 6.15, 6.21, 6.30, 7.14, 7.17, 7.23, 8.15, 8.22, 8.25 are approved.
Title 39, Chapter 8, Subchapter 1 | Motor Vehicle Inspections Exceptions | July 1, 2010 | March 15, 2012, 77 FR 15263 |
Title 39, Chapter 8, Subchapter 2 | Inspection of Motor Vehicles; Rules, Regulations | July 1, 2010 | March 15, 2012, 77 FR 15263 |
Title 39, Chapter 8, Subchapter 3 | Certificate of Approval, Issuance; Owner's Obligation for Safety | July 1, 2010 | March 15, 2012, 77 FR 15263 |

(d) EPA approved State source-specific requirements.

EPA-Approved New Jersey Source-Specific Provisions
Name of source | Identifier No. | State effective date | EPA approval date | Comments
Johnson Matthey | 55270 | June 13, 1995 | January 17, 1997, 62 FR 2581 | NOX RACT Facility Specific NOX Emission Limits NJAC 7:27-9.13. Multi-chamber metals recovery furnace, installation of low NOX burner.
Sandoz Pharmaceuticals Corporation | 104855 | March 23, 1995 | January 17, 1997, 62 FR 2581 | NOX RACT Facility Specific NOX Emission Limits NJAC 7:27-9.13. Controlled air combustion small trash from fired boiler energy recovery system.
PSEG Fossil Hudson Generation Station | BOP110001 | March 8, 2011 | January 3, 2012, 77 FR 19 | NOX, SO2, PM10 BART source specific control units: U1-OS1 (cyclone boiler (shutdown)), U1-OS2 (dry bottom wall-fired boiler), U15-OS(coal receiving system), U16-OS (coal reclaim system).
Conoco Phillips (Facility is now Phillips 66.) | BOP110001 | September 21, 2011 | January 3, 2012, 77 FR 19 | NOX, SO2 and PM10 BART source specific control units: OS1-E241, OS2-E243, OS3-E245, OS4-E246, OS5-E247, OS6-E248, OS7-E249, OS8-E250, OS11-E242, OS13-E253, and OS15-E258 (process heaters).
Vineland Municipal Electric Utility—Howard M. Down | BOP110001 | September 26, 2011 | January 3, 2012, 77 FR 19 | NOX, SO2 and PM10 BART source specific control units: U10-OS2(fuel oil boiler retired September 1, 2012), U10-OS3 (turbine (shutdown)), and U22-OS (emergency generator).
BL England Generating Station (Facility is now RC Cape May.) | BOP100003 | December 16, 2010 | January 3, 2012, 77 FR 19 | NOX, SO2 and PM10 BART source specific control units: U1-OS1(wet bottom coal-fired boiler (shutdown)), U2-OS1 (cyclone wet bottom coal fired boiler), U3-OS1 (oil-fired tangential boiler), U6-OS1 (emergency fire water pump engine), U7-OS1, U7-OS2, U7-OS4, U7-OS5, U7-OS6, U7-OS7,U7-OS10, U7-OS11, U7-OS12 (coal handling systems) and U8-OS1 (cooling tower).
Atlantic States Cast Iron Pipe Company | 85004 | November 22, 1994 | October 20, 1998, 63 FR 55949 | Approving NOX RACT Source Specific regulations NJAC 7:27-19.13 Cupola and Annealing Oven processes. Effective date 12/21/98.
Trigen-Trenton Energy Co | 61015 | January 11, 2007 | July 16, 2008, 73 FR 40752 | Alternative NOX Emission Limit pursuant to NJAC 7:27-19.13 For 2 Cooper Bessemer Distillate Oil or Dual Fired 4 stroke Diesel Internal Combustion Engines.
PSE&G Nuclear Hope Creek and Salem Generating Stations Cooling Tower | BOP050003 | August 7, 2007 Significant Modification Approval | April 1, 2009, 74 FR 14734 | TSP/PM 10 Source Specific Variance to SIP NJAC 7:27-6.5 Cooling Tower Unit 24, OS1 Effective Date 5/1/2009.
Co-Steel Corp of Sayreville (Formerly New Jersey Steel Corporation) | 15076 | September 3, 1997 | November 12, 2003, 68 FR 63991 | NOX Source specific emission limit under NJAC 7:27-19.13 for Electric arc furnace, melt shop metallurgy and billet reheat furnace sources. Effective date 12/13/2003.

(e) EPA approved nonregulatory and quasi-regulatory provisions.

EPA-Approved New Jersey Nonregulatory and Quasi-Regulatory Provisions
SIP element | Applicable geographic or nonattainment area | New Jersey submittal date | EPA approval date | Explanation
New Jersey NOX SIP Call Budget Demonstration | Statewide | April 26, 1999 and supplemented on July 31, 2000 | May 22, 2001, 66 FR 28063 |
2002 and 2005 Reasonable Further Progress Plans | New Jersey portion of the New York-Northern New Jersey-Long Island and Philadelphia-Wilmington-Trenton 1-hour ozone nonattainment areas | April 11, 2001 | February 4, 2002, 67 FR 5152 |
2007 Reasonable Further Progress Plans | New Jersey portion of the New York-Northern New Jersey-Long Island 1-hour ozone nonattainment area | April 11, 2001 | February 4, 2002, 67 FR 5152 |
2002, 2005 and 2007 Transportation Conformity Budgets | New Jersey portion of the New York-Northern New Jersey-Long Island Severe and Philadelphia-Wilmington-Trenton 1-hour ozone nonattainment areas | April 11, 2001 | February 4, 2002, 67 FR 5152 |
Updated 1990, 1996, 1999, 2002 and 2005 General Conformity Emissions Budget | McGuire Air Force Base | April 11, 2001 | February 4, 2002, 67 FR 5152 |
2002, 2005 and 2007 Ozone Projection Year Emission Inventories | New Jersey portion of the New York-Northern New Jersey-Long Island and Philadelphia-Wilmington-Trenton 1-hour ozone nonattainment areas | April 11, 2001 | February 4, 2002, 67 FR 5152 |
1996 Base Year Emission Inventories | Statewide and New Jersey portion of the New York-Northern New Jersey-Long Island Severe and Philadelphia-Wilmington-Trenton 1-hour ozone nonattainment areas | April 11, 2001 | February 4, 2002, 67 FR 5152 |
RACM Analysis | New Jersey portion of the New York-Northern New Jersey-Long Island Severe and Philadelphia-Wilmington-Trenton 1-hour ozone nonattainment areas | October 16, 2001 | February 4, 2002, 67 FR 5152 |
1-Hour ozone Attainment Demonstration for 2007 | New Jersey portion of the New York-Northern New Jersey-Long Island Severe and Philadelphia-Wilmington-Trenton 1-hour ozone nonattainment area | August 31 and October 16, 1998 and April 26, 2000 | February 4, 2002, 67 FR 5152 |
1-Hour ozone Attainment Demonstration for 2005 | New Jersey portion of the Philadelphia-Wilmington-Trenton 1-hour ozone nonattainment area | August 31 and October 16, 1998 and April 26, 2000 | February 4, 2002, 67 FR 5152 |
CO Attainment Demonstration and Redesignation Request | New Jersey portion of the New York-Northern New Jersey-Long Island 8-hour CO nonattainment area | January 15, 2002 | August 23, 2002, 67 FR 54574 |
1996 CO Attainment Inventory | New Jersey portion of the New York-Northern New Jersey-Long Island 8-hour CO nonattainment area | August 7, 1998 and supplemented on October 1, 2001 and January 15, 2002 | August 23, 2002, 67 FR 54574 |
2007 and 2014 CO Projection Inventories | New Jersey portion of the New York-Northern New Jersey-Long Island 8-hour CO nonattainment area | January 15, 2002 | August 23, 2002, 67 FR 54574 |
1997, 2007 and 2014 Transportation Conformity Budgets | New Jersey portion of the New York-Northern New Jersey-Long Island 8-hour CO nonattainment area | December 10, 1999 and January 15, 2002 | August 23, 2002, 67 FR 54574 |
Redesignation request to attainment for the CO nonattainment area | New Jersey portion of the New York-Northern New Jersey-Long Island 8-hour CO nonattainment area | November 15, 1992, October 4, 2003 and August 7, 1998 and supplemented on October 1, 2001 and January 15, 2002 | August 23, 2002, 67 FR 54574 |
CO Maintenance Plan | Atlantic, Burlington, Mercer, Middlesex, Monmouth, Morris, Ocean, Salem and Somerset (the 9 non-classified areas) and Camden County, in New Jersey. CO NAAQS | May 18, 2006 | July 10, 2006, 71 FR 38770 |
2002 CO Attainment Inventory | Atlantic, Burlington, Mercer, Middlesex, Monmouth, Morris, Ocean, Salem and Somerset (the 9 non-classified areas) and Camden County, in New Jersey. CO NAAQS | May 18, 2006 | July 10, 2006, 71 FR 38770 |
1997 and 2007 CO Transportation Conformity Motor Vehicle Emission Budgets | Atlantic, Burlington, Mercer, Middlesex, Monmouth, Morris, Ocean, Salem and Somerset (the 9 non-classified areas) and Camden County, in New Jersey. CO NAAQS | May 21, 2006 | July 10, 2006, 71 FR 38770 |
2007 and 2014 CO Transportation Conformity Emission Budgets | Five county New Jersey portion of the New York-Northern New Jersey-Long Island CO nonattainment area | May 18, 2006 | July 10, 2006, 71 FR 38770 |
2002 VOC, NOX and CO ozone season and annual emissions inventory | State-wide | May 18, 2006 | July 10, 2006, 71 FR 38770 |
2002 PM2.5 and associated precursors annual emissions inventory | New Jersey portion of the New York-Northern New Jersey-Long Island PM2.5 nonattainment area and statewide | May 18, 2006 | July 10, 2006, 71 FR 38770 |
2005 and 2007 VOC, NOX and Transportation Conformity Emission Budgets | New Jersey portion of the New York-Northern New Jersey-Long Island ozone nonattainment area | May 18, 2006 | July 10, 2006, 71 FR 38770 |
Updated 1990, 1996, 1999, 2002 and 2005 General Conformity Emissions Budget | McGuire Air Force Base | May 18, 2006 | July 10, 2006, 71 FR 38770 |
2005 and 2007 VOC and NOX Transportation Conformity Emission Budgets | New Jersey portion of the Philadelphia-Wilmington-Trenton ozone nonattainment area | May 18, 2006 | July 10, 2006, 71 FR 38770 |
2008 VOC and NOX Projection Inventories | New Jersey portion of the New York-Northern New Jersey-Long Island and Philadelphia-Wilmington-Atlantic City ozone nonattainment areas | October 29, 2007 | May 15, 2009, 74 FR 22837 |
2008 Reasonably Further Progress Plans | New Jersey portion of the New York-Northern New Jersey-Long Island and Philadelphia-Wilmington-Atlantic City ozone nonattainment areas | October 29, 2007 | May 15, 2009, 74 FR 22837 |
RACM Analysis | New Jersey portion of the New York-Northern New Jersey-Long Island and Philadelphia-Wilmington-Atlantic City ozone nonattainment areas | October 29, 2007 | May 15, 2009, 74 FR 22837 |
2008 VOC and NOX Transportation Conformity Budgets | New Jersey portion of the New York-Northern New Jersey-Long Island and Philadelphia-Wilmington-Atlantic City ozone nonattainment areas | October 29, 2007 | May 15, 2009, 74 FR 22837 |
2008-2011 VOC and NOX General Conformity Budgets | McGuire Air Force Base and Lakehurst Naval Air Station | October 29, 2007 | May 15, 2009, 74 FR 22837 |
RACT Analysis | State-wide | August 1, 2007 | May 15, 2009, 74 FR 22837 |
Regional Haze Plan from 2002-2018 | State-wide | July 28, 2009 and supplemented on December 9, 2010, March 2, 2011 and December 7, 2011 | January 3, 2012, 77 FR 19 |
2002 and 2018 Regional Haze Modeling and Projection Inventory | State-wide | July 28, 2009 and supplemented on December 9, 2010, March 2, 2011 and December 7, 2011 | January 3, 2012, 77 FR 19 |
Reasonable Progress Goals Visibility Demonstration | State-wide | July 28, 2009 and supplemented on December 9, 2010, March 2, 2011 and December 7, 2011 | January 3, 2012, 77 FR 19 |
BART Analysis | State-wide | July 28, 2009 and supplemented on December 9, 2010, March 2, 2011 and December 7, 2011 | January 3, 2012, 77 FR 19 |
8-hour ozone Attainment Demonstration | New Jersey portion of the New York-Northern New Jersey-Long Island and Philadelphia-Wilmington-Atlantic City 8-hour ozone nonattainment areas | October 29, 2007 | February 11, 2013, 78 FR 9596 |
NJ Infrastructure SIP | 1997 8-hour ozone and 1997 and 2006 PM2.5 Standards | February 25, 2008 and supplemented on January 15, 2010 | June 14, 2013, 78 FR 35764 |
Redesignation Request | New Jersey portion of the New York-Northern New Jersey-Long Island NY-NJ-CT and New Jersey portion of the Philadelphia-Wilmington PA-NJ-DE PM2.5 1997 annual and 2006 24-hour PM2.5 nonattainment areas | December 26, 2012 and supplemented on May 3, 2013 | September 4, 2013, 78 FR 54396 |
PM2.5 Attainment Demonstration | New Jersey portion of the New York-Northern New Jersey-Long Island NY-NJ-CT and New Jersey portion of the Philadelphia-Wilmington PA-NJ-DE PM2.5 1997 annual and 2006 24-hour PM2.5 nonattainment areas | December 26, 2012 and supplemented on May 3, 2013 | September 4, 2013, 78 FR 54396 |
2007 Annual Attainment Inventory for PM2.5 and the associated PM2.5 precursors | New Jersey portion of the New York-Northern New Jersey-Long Island NY-NJ-CT and New Jersey portion of the Philadelphia-Wilmington PA-NJ-DE PM2.5 1997 annual and 2006 24-hour PM2.5 nonattainment areas | December 26, 2012 and supplemented on May 3, 2013 | September 4, 2013, 78 FR 54396 |
2017 (Interim) and 2025 PM2.5 and NOX Annual Projection Inventories | New Jersey portion of the New York-Northern New Jersey-Long Island NY-NJ-CT and New Jersey portion of the Philadelphia-Wilmington PA-NJ-DE PM2.5 1997 annual and 2006 24-hour PM2.5 nonattainment areas | December 26, 2012 and supplemented on May 3, 2013 | September 4, 2013, 78 FR 54396 |
2009 and 2025 PM2.5 and NOX Annual Emissions Motor Vehicle Emission Budgets | New Jersey portion of the New York-Northern New Jersey-Long Island NY-NJ-CT and New Jersey portion of the Philadelphia-Wilmington PA-NJ-DE PM2.5 1997 annual and 2006 24-hour PM2.5 nonattainment areas | December 26, 2012 and supplemented on May 3, 2013 | September 4, 2013, 78 FR 54396 |
CO Limited Maintenance Plan | New Jersey portion of the New York-Northern New Jersey-Long Island CO nonattainment area | June 11, 2015 and February 2016 | July 1, 2016, 81 FR 43096 |
2007 CO Attainment inventory | New Jersey portion of the New York-Northern New Jersey-Long Island CO nonattainment area | June 11, 2015 and February 2016 | July 1, 2016, 81 FR 43096 |

§ 52.1605 [Removed and Reserved]

4. Section 52.1605 is removed and reserved.

[FR Doc. 2017-13657 Filed 6-30-17; 8:45 am]

BILLING CODE 6560-50-P